DEPARTMENT OF COMMERCE

National Oceanic and Atmospheric Administration

[RTID 0648-XC507]

Endangered Species; File No. 26973

AGENCY: National Marine Fisheries Service (NMFS), National Oceanic and Atmospheric Administration (NOAA), Commerce.

ACTION: Notice; receipt of application.

SUMMARY: Notice is hereby given that the Field Museum (Kevin Feldheim, Ph.D., Responsible Party), 1400 S Lake Shore Drive, Chicago, Illinois 60605, has applied in due form for a permit to import and export angelshark parts for purposes of scientific research.

DATES: Written, telefaxed, or email comments must be received on or before December 5, 2022.

ADDRESSES: The application and related documents are available for review by selecting “Records Open for Public Comment” from the “Features” box on the Applications and Permits for Protected Species (APPS) home page, https://apps.nmfs.noaa.gov, and then selecting File No. 26973 from the list of available applications. These documents are also available upon written request via email to NMFS.Pr1Comments@noaa.gov.

Written comments on this application should be submitted via email to NMFS.Pr1Comments@noaa.gov. Please include File No. 26973 in the subject line of the email comment.

Those individuals requesting a public hearing should submit a written request via email to NMFS.Pr1Comments@noaa.gov. The request should set forth the specific reasons why a hearing on this application would be appropriate.

FOR FURTHER INFORMATION CONTACT: Jennifer Skidmore and Erin Markin, Ph.D., (301) 427-8401.

SUPPLEMENTARY INFORMATION: The subject permit is requested under the authority of the Endangered Species Act of 1973, as amended (ESA; 16 U.S.C. 1531 et seq.) and the regulations governing the taking, importing, and exporting of endangered and threatened species (50 CFR parts 222 through 226).

The applicant proposes to import and export parts from three species of angelshark for research into the population genetics and basic breeding biology. Unlimited samples from the following species will be imported and potentially exported annually: 800 individuals of the common angelshark (Squatina squatina) and 40 individuals each of the other species (sawback [Squatina aculeata] and smoothback [Squatina occulta] angelsharks). These parts would be from live capture research activities primarily in the Northeastern Atlantic, but opportunistic world-wide import and export is also requested. The requested duration of the permit is 5 years.

Dated: October 31, 2022.
Amy Sloan,
Acting Chief, Permits and Conservation Division, Office of Protected Resources, National Marine Fisheries Service.

[FR Doc. 2022-23992 Filed 11-3-22; 8:45 am]

BILLING CODE P